DEPARTMENT OF TRANSPORTATION

Federal Aviation Administration

Notice of Request To Release Airport Property

AGENCY: Federal Aviation Administration (FAA), DOT.

ACTION: Notice of intent to rule on request to release airport property at the Winterset Municipal Airport (3Y3) Winterset, Iowa.

SUMMARY: The FAA proposes to rule and invites public comment on the release of land at the Winterset Municipal Airport (3Y3), Winterset, Iowa.

DATES: Comments must be received on or before May 1, 2020.

ADDRESSES: Comments on this application may be mailed or delivered to the FAA at the following address: Amy J. Walter, Airports Land Specialist, Federal Aviation Administration, Airports Division, ACE-620G, 901 Locust Room 364, Kansas City, MO 64106.

In addition, one copy of any comments submitted to the FAA must be mailed or delivered to: Greg Harrison, Winterset Airport Authority Chairman, Winterset Municipal Airport, 3405 N 8th Avenue, Winterset, IA 50273, (515) 468-0802.

FOR FURTHER INFORMATION CONTACT: Amy J. Walter, Airports Land Specialist, Federal Aviation Administration, Airports Division, ACE-620G, 901 Locust Room 364, Kansas City, MO 64106, (816) 329-2603, amy.walter@faa.gov.

The request to release property may be reviewed, by appointment, in person at this same location.

SUPPLEMENTARY INFORMATION: The FAA invites public comment on the request to release approximately 0.845± acres of airport property at the Winterset Municipal Airport (3Y3) under the provisions of 49 U.S.C. 47107(h)(2). On March 19, 2020, the Winterset Airport Authority Chairman requested from the FAA that 0.845± acres of property be released to Madison County for the purpose of relocating N. 8th Avenue and establishing a new right of way and utility corridor. On March 27, 2020, the FAA determined the request to release property at the Winterset Municipal Airport (3Y3) submitted by the Sponsor meets the procedural requirements of the Federal Aviation Administration and the release of the property does not and will not impact future aviation needs at the airport. The FAA may approve the request, in whole or in part, no sooner than thirty days after the publication of this Notice.

The following is a brief overview of the request:

Winterset Municipal Airport (3Y3) is proposing the release of a two parcels, totaling 0.845± acres. The release of land is necessary to comply with Federal Aviation Administration Grant Assurances that do not allow federally acquired airport property to be used for non-aviation purposes. The sale of the subject property will result in the land at the Winterset Municipal Airport (3Y3) being changed from aeronautical to nonaeronautical use and release the land from the conditions of the AIP Grant Agreement Grant Assurances. In accordance with 49 U.S.C. 47107(c)(2)(B)(i) and (iii), the airport will exchange these parcels for a parcel adjacent to the airport containing the previous N. 8th Avenue road right of way and utility corridor.

Any person may inspect, by appointment, the request in person at the FAA office listed above under FOR FURTHER INFORMATION CONTACT. In addition, any person may, upon appointment and request, inspect the application, notice and other documents determined by the FAA to be related to the application in person at the Winterset Municipal Airport.

Issued in Kansas City, MO, on March 27, 2020.
James A. Johnson,
Director, Airports Division.

[FR Doc. 2020-06756 Filed 3-31-20; 8:45 am]

BILLING CODE 4910-13-P